NUCLEAR REGULATORY COMMISSION

[Docket No. NRC-2011-0250]

Agency Information Collection Activities: Proposed Collection; Comment Request

AGENCY: Nuclear Regulatory Commission.

ACTION: Notice of pending NRC action to submit an information collection request to the Office of Management and Budget (OMB) and solicitation of public comment.

SUMMARY: The U.S. Nuclear Regulatory Commission (NRC) invites public comment about our intention to request the OMB's approval for renewal of an existing information collection that is summarized below. We are required to publish this notice in the Federal Register under the provisions of the Paperwork Reduction Act of 1995 (44 U.S.C. Chapter 35).

Information pertaining to the requirement to be submitted:

1. The title of the information collection: NRC Form 396, “Certification of Medical Examination by Facility Licensee.”

2. Current OMB approval number: 3150-0024.

3. How often the collection is required: Upon application for an initial or upgrade operator license or, every six years for the renewal of operator or senior operator license, and upon notices of disability.

4. Who is required or asked to report: Facility licensees who are tasked with certifying the medical fitness of an applicant or licensee.

5. The number of annual respondents: 136 Facilities submitting initial and upgrade applications, renewals and disability forms.

6. The number of hours needed annually to complete the requirement or request: 1,224 hours (1,020 hours for reporting, and 204 hours for recordkeeping).

7. Abstract: NRC Form 396 is used to transmit information to the NRC regarding the medical condition of applicants for initial operator licenses or renewal of operator licenses and for the maintenance of medical records for all licensed operators. The information is used to determine whether the physical condition and general health of applicants for operator licensees is such that the applicant would not be expected to cause operational errors and endanger public health and safety.

Submit, by January 27, 2012, comments that address the following questions:

1. Is the proposed collection of information necessary for the NRC to properly perform its functions?

2. Is the burden estimate accurate?

3. Is there a way to enhance the quality, utility, and clarity of the information to be collected?

4. How can the burden of the information collection be minimized, including the use of automated collection techniques or other forms of information technology?

The public may examine and have copied for a fee publicly available documents, including the draft supporting statement, at the NRC's Public Document Room, Room O1-F21, One White Flint North, 11555 Rockville Pike, Rockville, Maryland 20852. OMB clearance requests are available at the NRC Web site: http://www.nrc.gov/public-involve/doc-omment/omb/index.html. The document will be available on the NRC home page site for 60 days after the signature date of this notice. Comments submitted in writing or in electronic form will be made available for public inspection. Because your comments will not be edited to remove any identifying or contact information, the NRC cautions you against including any information in your submission that you do not want to be publicly disclosed. Comments submitted should reference Docket No. NRC-2011-0250.

Public comments and supporting materials related to this document can be found at http://www.regulations.gov by searching on Docket No. NRC-2011-0250. Mail comments to NRC Clearance Officer, Tremaine Donnell (T-5 F53), U.S. Nuclear Regulatory Commission, Washington, DC 20555-0001.

Questions about the information collection requirements may be directed to the NRC Clearance Officer, Tremaine Donnell (T-5 F53), U.S. Nuclear Regulatory Commission, Washington, DC 20555-0001, by telephone at (301) 415-6258, or by e-mail to INFOCOLLECTS.Resource@NRC.GOV.

For the Nuclear Regulatory Commission.
Dated at Rockville, Maryland, this 21st day of November, 2011.
Tremaine Donnell,
NRC Clearance Officer, Office of Information Services.

[FR Doc. 2011-30457 Filed 11-25-11; 8:45 a.m.]

BILLING CODE 7590-01-P